DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 81 FR 54091-54094, dated August 15, 2016) is amended to reflect the reorganization of the Office of the Director, National Center for Emerging and Zoonotic Infectious Diseases, Office of Infectious Diseases, Centers for Disease Control and Prevention.

Section C-B, Organization and Functions, is hereby amended as follows:

Insert item (10) ensures compliance with and manages the infectious diseases Clinical Laboratory Improvement Amendments (CLIA) unit within the Office of Infectious Diseases (CV), and renumber remaining items accordingly.

Delete item (5) ensures scientific quality and ethical and regulatory compliance of center activities within the National Center for Emerging and Zoonotic Infectious Diseases (CVL), Office of the Director (CVL1), and renumber remaining items accordingly.

Sherri Berger,
Chief Operating Officer, Centers for Disease Control and Prevention.

[FR Doc. 2016-23212 Filed 9-26-16; 8:45 am]

BILLING CODE 4160-18-P